DEPARTMENT OF THE INTERIOR

Geological Survey

[GX24GK009970000]

Advisory Committee on Landslides; Call for Nominations

AGENCY: U.S. Geological Survey, Department of the Interior.

ACTION: Call for nominations.

SUMMARY: The U.S. Geological Survey seeks nominations for individuals to be considered for membership to serve on the Advisory Committee on Landslides.

DATES: All nominations must be received no later than August 5, 2024.

ADDRESSES: Please email nominations to Dr. Jonathan Godt, Designated Federal Officer, Advisory Committee on Landslides, at jgodt@usgs.gov.

FOR FURTHER INFORMATION CONTACT: Dr. Jonathan Godt, Landslide Hazards Program Coordinator and Designated Federal Officer, via email at jgodt@usgs.gov, or by telephone at 303-905-9468. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Advisory Council on Landslides (ACL) is established under the National Landslide Preparedness Act (Pub. L. 116-323) and regulated by the Federal Advisory Committee Act, 5 U.S.C. ch. 10. The ACL provides advice and recommendations to the Secretary of the Interior through the Interagency Coordinating Committee on Landslide Hazard on the implementation of the National Landslide Preparedness Act. The ACL will be composed of no fewer than 11 representative members and will meet 1-2 times per year.

Members of the ACL will be individuals not employed by the Federal Government who are qualified in landslide hazard and risk or related fields. The ACL membership will be representative of:

• States, including State geological organizations;

• territories, including territorial geological organizations;

• Indian Tribes, including Tribal geological organizations;

• research institutions and institutions of higher education qualified to provide advice regarding landslide hazard and risk reduction, and representing related scientific, architectural, engineering, and planning disciplines;

• industry standards development organizations; and

• State, territorial, local, and Tribal emergency management agencies.

Selection of members will ensure that a reasonable cross-section of views and expertise is represented on the ACL, including a range of geographies and communities impacted by landslide hazards in the United States. Each member will serve a term of up to three years, with terms staggered to ensure continuity.

Members of the ACL serve without compensation. However, while away from their homes or regular places of business, ACL and subcommittee members engaged in ACL or subcommittee business that the Designated Federal Official approves may be allowed travel expenses, including per diem in lieu of subsistence, as authorized by 5 U.S.C. 5703, in the same manner as persons employed intermittently in Federal Government service.

Nominations should include a resume that provides contact information and a description of the nominee's qualifications that would enable the Department of the Interior to make an informed decision regarding the candidate's suitability to serve on the ACL. Send nominations to the Designated Federal Officer at the email provided in ADDRESSES. Additional information about the ACL may be found online at: https://www.usgs.gov/programs/landslide-hazards/advisory-committee-landslides-acl.

Authority: 5 U.S.C. ch. 10.

Gary D. Latzke,
Chief of Staff, USGS Natural Hazards Mission Area.

[FR Doc. 2024-12161 Filed 6-3-24; 8:45 am]

BILLING CODE 4338-11-P